DEPARTMENT OF EDUCATION

Office of Special Education and Rehabilitative Services; Overview Information; Personnel Preparation To Improve Services and Results for Children With Disabilities; Notice Inviting Applications for New Awards for Fiscal Year (FY) 2004

Catalog of Federal Domestic Assistance (CFDA) Numbers: 84.325A, 84.325D, 84.325E, and 84.325H.

Note: This notice includes four priorities, key dates, and funding information for each of these competitions.

DATES: For dates regarding the individual priorities, see the chart in the Award Information section of this notice.

Applications Available: See chart.

Deadline for Transmittal of Applications: See chart.

Deadline for Intergovernmental Review: See chart.

Eligible Applicants: Institutions of higher education (IHE).

Estimated Available Funds: $14,200,796.

For funding information regarding the individual priorities, see the chart in the Award Information section of this notice. In addition, the allocation of funds for Absolute Priority 1 is explained in the Award Information section of this notice.

Estimated Range of Awards: See chart.

Estimated Average Size of Awards: See chart.

Maximum Awards: See chart.

Estimated Number of Awards: See chart.

Project Period: See chart. Full Text of Announcement

I. Funding Opportunity Description

Purpose of Program: The purposes of this program are to (1) help address State-identified needs for qualified personnel—in special education, related services, early intervention, and regular education—to work with children with disabilities; and (2) ensure that those personnel have the skills and knowledge—derived from practices that have been determined through research and experience to be successful—that are needed to serve those children.

Priorities: In accordance with 34 CFR 75.105(b)(2)(iv), these priorities are from allowable activities specified in the statute (see sections 661(e)(2) and 673 of the Individuals with Disabilities Education Act (IDEA)).

Absolute Priorities: For FY 2004 these priorities are, except as otherwise specified, absolute priorities. Under 34 CFR 75.105(c)(3) we consider only applications that meet these absolute priorities.

The priorities are:

Absolute Priority 1—Preparation of Special Education, Related Services, and Early Intervention Personnel To Serve Infants, Toddlers, and Children With Low-Incidence Disabilities (84.325A)

Background: The national demand for special education, related services, and early intervention personnel, to serve infants, toddlers, and children with low-incidence disabilities exceeds available supply. However, because of the relatively small number of personnel needed to serve infants, toddlers, and children with low-incidence disabilities in each State, institutions of higher education and individual States have limited incentive to develop and support programs that train such personnel. Moreover, of the programs that do exist, many fail to produce graduates with the skills necessary to meet the needs of the low-incidence disability population. Thus, Federal support is required to increase the supply of personnel who possess the skills and experience necessary to serve children with low-incidence disabilities.

Priority: This priority supports projects that increase the number and quality of personnel to serve children with low-incidence disabilities by providing preservice preparation of special educators, early intervention personnel, and related services personnel at the associate, baccalaureate, master's, or specialist level. For the purpose of this priority, the term “low-incidence disability” means a visual or hearing impairment, or simultaneous visual and hearing impairments, a significant cognitive impairment, or any impairment for which a small number of personnel with highly specialized skills and knowledge are needed in order for children with that impairment to receive early intervention services or a free appropriate public education (IDEA, section 673(b)(3)). Training for personnel to serve children with mild-moderate mental retardation, specific learning disabilities, speech or language disorders, or emotional and behavioral disabilities is addressed under the priority for the preparation of personnel to serve children with high-incidence disabilities (84.325H), and, therefore, is not supported under this priority.

A preservice program is a program that leads toward a degree, certification, professional license, or endorsement (or its equivalent), and may include the preparation of currently employed personnel who are seeking additional degrees, certifications, endorsements, or licenses.

Applicants may propose to prepare one or more of the following types of personnel—

(a) Early intervention personnel who serve infants and toddlers and their families. For the purpose of this priority, all children who require early intervention services are considered to have a low-incidence disability. Early intervention personnel include persons who train, or serve as consultants to, service providers and service coordinators;

(b) Special educators, including those who work in the areas of early childhood, speech and language, adapted physical education, and assistive technology; and paraprofessional personnel who work with children with low-incidence disabilities and their families; or

(c) Related services personnel who provide developmental, corrective, and other support services (such as psychological, occupational or physical and recreational therapy) to children with low-incidence disabilities and their families.

This priority may support both comprehensive programs and specialty components within a broader discipline that prepare personnel for work with the low-incidence population. A program that prepares individuals to receive a Doctor of Audiology (DAud) degree is eligible for this competition because the DAud is an entry-level degree. However, for the purpose of this priority, eligible related service providers do not include physicians.

We particularly encourage projects that address the personnel needs of more than one State, provide multi-disciplinary training, and provide for collaboration among several training institutions and between training institutions and public schools. In addition, we encourage projects that foster successful coordination between special education and regular education professional development programs to meet the needs of children with low-incidence disabilities in inclusive settings. Each project funded under this absolute priority must—

(a) Use curricula and pedagogy that are shown to be effective as demonstrated through scientifically based research, in order to prepare personnel who are able to (1) improve outcomes for students with low-incidence disabilities, and (2) foster appropriate access to and achievement in the general education curricula whenever appropriate;

(b) Demonstrate how research-based curriculum and pedagogy are incorporated into training requirements and reflected in all relevant coursework for the proposed training program;

(c) Offer integrated training and practice opportunities that will enhance the collaborative skills of appropriate personnel who share responsibility for providing effective services to children with disabilities;

(d) Prepare personnel to address the specialized needs of children with low-incidence disabilities from diverse cultural and language backgrounds by—

(1) Determining the competencies needed for personnel to work effectively with culturally and linguistically diverse populations; and

(2) Infusing those competencies into early intervention, special education, and related services training programs;

(e) Develop or improve and implement mutually beneficial partnerships between training programs and schools to promote continuous improvement in preparation programs and in service delivery;

(f) If field-based training is provided, include field-based training opportunities for students in diverse settings, including schools and settings in high-poverty communities;

(g) If the project prepares personnel to provide services to visually impaired or blind children that can be appropriately provided in Braille, prepare those individuals to provide those services in Braille.

(h) Provide clear, defensible research-based methods for evaluating the extent to which graduates of the training program are prepared to provide high-quality services that result in improved outcomes for children with disabilities; and communicate the results of this evaluation process to the Office of Special Education Programs (OSEP) in required annual performance reports and the final performance report;

(i) Describe how the proposed training program is aligned with State learning standards for children; and

(j) Include, in the application Appendix, all course syllabi that are relevant to the training program proposed. Course syllabi must clearly reflect the incorporation of research-based curriculum and pedagogy as required under paragraph (b) of this section of the priority.

To be considered for an award, an applicant must satisfy the following requirements in section 673(f)-(i) of IDEA and 34 CFR part 304—

(a) Demonstrate, with letters from one or more States that the project proposes to serve, that the State or States need personnel in the area or areas in which the applicant proposes to provide preparation, as identified in the State's comprehensive system of personnel development under Part B or C of IDEA;

(b) Demonstrate that it has engaged in a cooperative effort with one or more SEAs or, if appropriate, lead agencies for providing early intervention services, to plan, carry out, and monitor the project;

(c) Provide letters from one or more States stating that they intend to accept successful completion of the proposed personnel preparation program as meeting State personnel standards for serving children with disabilities or serving infants and toddlers with disabilities;

(d) Meet State and professionally recognized standards for the preparation of special education, related services, or early intervention personnel;

(e) Ensure that individuals who receive financial assistance under the proposed project will meet the service obligation requirements, or repay all or part of the cost of that assistance, in accordance with section 673(h)(1) of IDEA and 34 CFR part 304. Applicants must describe how they will inform scholarship recipients of this service obligation requirement; and

(f) As authorized under section 673(i) of IDEA and 34 CFR 304.20, use at least 55 percent of the total requested budget for student scholarships.

Competitive Preference Priority: Within Absolute Priority 1, we give competitive preference to applications that address the following priority.

This competitive preference priority is from the program statute (section 673(g)(3)(B) of IDEA).

Under 34 CFR 75.105(c)(2)(i) we award up to 10 points to an application, depending on the extent to which the application meets this priority.

This competitive preference priority is:

We give preference to IHEs based on the extent to which IHEs successfully recruit and prepare individuals with disabilities and individuals from groups that are underrepresented in the profession for which they are preparing individuals. In the case of a new project, the applicant must submit a plan with strategies on how it will meet this competitive preference.

Absolute Priority 2—Preparation of Leadership Personnel (84.325D)

This priority supports projects that conduct the following preparation activities for leadership personnel:

(a) Preparing personnel at the doctoral and postdoctoral levels to administer, enhance, or to provide special education, related services, or early intervention services for children with disabilities; or

(b) Developing master's and specialist level programs in special education administration.

Note: Training that leads to a Doctor of Audiology (DAud) degree is not included as part of this priority because we address it under Absolute Priority 1 (84.325A).

Projects funded under this absolute priority must—

(a) Prepare personnel to work with culturally and linguistically diverse populations by—

(1) Determining the competencies needed by leadership personnel to understand and work with culturally and linguistically diverse populations; and

(2) Infusing those competencies into early intervention, special education, and related services training programs.

(b) Include coursework reflecting current research and pedagogy on—

(1) Participation and achievement in the general education curriculum and improved outcomes for children with disabilities; or

(2) The provision of coordinated services in natural environments to improve outcomes for infants and toddlers with disabilities and their families.

(c) Demonstrate how research-based curriculum and pedagogy are incorporated into training requirements and reflected in all relevant coursework for the proposed training program.

(d) Offer integrated training and practice opportunities that will enhance the collaborative skills of all personnel who share responsibility for providing effective services for children with disabilities.

(e) Provide clear, defensible research-based methods for evaluating the extent to which graduates of the training program are prepared to provide high-quality services that result in improved outcomes for children with disabilities. Communicate the results of this evaluation process to OSEP in required annual performance reports and the final performance report;

(f) Describe, if appropriate, how the proposed training program is aligned with State learning standards for children; and

(g) Include, in the application Appendix, all course syllabi that are relevant to the training program proposed. Course syllabi must clearly reflect the incorporation of research-based curriculum and pedagogy as required under paragraph (c) of this section of the priority.

To be considered for an award, an applicant must satisfy the following requirements contained in section 673(f)-(i) of IDEA and 34 CFR part 304—

(a) Demonstrate, with letters from one or more States that the project proposes to serve, that each State needs personnel in the area or areas in which the applicant proposes to provide preparation, as identified in each State's comprehensive system of personnel development under Part B or C of IDEA;

(b) Demonstrate that it has engaged in a cooperative effort with one or more SEAs—or, if appropriate, lead agencies for providing early intervention services—to plan, carry out, and monitor the project;

(c) Meet State and professionally recognized standards for the preparation of leadership personnel in special education, related services, or early intervention fields;

(d) Ensure that individuals who receive financial assistance under the proposed project will meet the service obligation requirements, or repay all or part of the cost of that assistance, in accordance with section 673(h)(2) of IDEA and the regulations in 34 CFR part 304. Applicants must describe how they will inform scholarship recipients of this service obligation requirement.

(e) As authorized under section 673(i) of IDEA and 34 CFR 304.20, use at least 65 percent of the total requested budget for student scholarships.

Competitive Preference Priority: Within Absolute Priority 2, we give competitive preference to applications that address the following priority.

This competitive preference priority is from the program statute (section 673(g)(3)(B) of IDEA).

Under 34 CFR 75.105(c)(2)(i) we award up to 10 points to an application, depending on the extent to which the application meets this priority.

This competitive preference priority is:

We give preference to IHEs based on the extent to which IHEs successfully recruit and prepare individuals with disabilities and individuals from groups that are underrepresented in the profession for which they are preparing individuals. In the case of a new project, the applicant must submit a plan with strategies on how it will meet this competitive preference.

Absolute Priority 3—Preparation of Personnel in Minority Institutions (84.325E)

This priority supports awards to IHEs with minority student enrollments of at least 25 percent, including Historically Black Colleges and Universities, for the purpose of preparing personnel to work with children with disabilities.

This priority supports projects that provide preservice preparation of special educators, early intervention personnel, and related services personnel at the associate, baccalaureate, master's, specialist, doctoral, or post-doctoral level.

A preservice program is a program that leads toward a degree, certification, professional license or endorsement (or its equivalent), and may include the preparation of currently employed personnel who are seeking additional degrees, certifications, endorsements, or licenses.

Applicants may propose to prepare one or more of the following types of personnel—

(a) Special educators, including those who work in the areas of early childhood, speech and language, adapted physical education, and assistive technology; and paraprofessional personnel who work with children with disabilities;

(b) Related services personnel who provide developmental, corrective, and other support services (such as psychological, occupational or physical and recreational therapy) to children with disabilities. Comprehensive programs and specialty components within a broader discipline that are designed to prepare personnel for work with children with disabilities may be supported. For the purpose of this priority, eligible related service providers do not include physicians; or

(c) Early intervention personnel who serve infants and toddlers and their families. Early intervention personnel include persons who train, or serve as consultants to, service providers and service coordinators.

Projects funded under this absolute priority must—

(a) Use curricula and pedagogy that are shown to be effective as demonstrated through scientifically-based research, in order to prepare personnel who are able to (1) improve outcomes for students with disabilities, and (2) foster appropriate access to and achievement in the general education curricula as appropriate;

(b) Demonstrate how research-based curriculum and pedagogy are incorporated into training requirements and reflected in all relevant coursework for the proposed training program;

(c) Offer integrated training and practice opportunities that will enhance the collaborative skills of appropriate personnel who share responsibility for providing effective services to children with disabilities;

(d) Prepare personnel to address the specialized needs of children with disabilities from diverse cultural and language backgrounds by—

(1) Determining the competencies needed for personnel to work effectively with culturally and linguistically diverse populations; and

(2) Infusing those competencies into early intervention, special education, and related services training programs;

(e) Develop or improve and implement mutually beneficial partnerships between training programs and schools to promote continuous improvement in preparation programs and in service delivery;

(f) If field-based training is provided, include field-based training opportunities for students in diverse settings, including schools and settings in high-poverty communities;

(g) Employ effective strategies for recruiting students from culturally and linguistically diverse populations;

(h) Provide student support systems (including tutors, mentors, and other innovative practices) to enhance student retention and success in the program;

(i) Provide clear, defensible research-based methods for evaluating the extent to which graduates of the training program are prepared to provide high-quality services that result in improved outcomes for children with disabilities. Communicate the results of this evaluation process to OSEP in required annual performance reports and the final performance report;

(j) Describe how the proposed training program is aligned with State learning standards for children; and

(k) Include, in the application Appendix, all course syllabi that are relevant to the training program proposed. Course syllabi must clearly reflect the incorporation of research-based curriculum and pedagogy as required under paragraph (b) of this section of this priority.

To be considered for an award, an applicant must satisfy the following requirements contained in section 673(f) through (i) of IDEA and 34 CFR part 304—

(a) Demonstrate, with letters from one or more States that the project proposes to serve, that each State needs personnel in the area or areas in which the applicant proposes to provide preparation, as identified in the State's comprehensive system of personnel development under Part B or C of IDEA;

(b) Demonstrate that it has engaged in a cooperative effort with one or more State educational agencies—or, if appropriate, lead agencies for providing early intervention services—to plan, carry out, and monitor the project;

(c) Provide letters from one or more States stating that they intend to accept successful completion of the proposed personnel preparation program as meeting State personnel standards for serving children with disabilities or serving infants and toddlers with disabilities;

(d) Meet State and professionally-recognized standards for the preparation of special education, related services, or early intervention personnel, if the purpose of the project is to assist personnel in obtaining degrees;

(e) Ensure that individuals who receive financial assistance under the proposed project will meet the service obligation requirements, or repay all or part of the cost of that assistance, in accordance with section 673(h)(1) of IDEA and 34 CFR part 304. Applicants must describe how they will inform scholarship recipients of this service obligation requirement; and

(f) As authorized under section 673(i) of IDEA and 34 CFR 304.20, use at least 55 percent of the total requested budget for student scholarships or provide sufficient justification for any designation less than 55 percent for student scholarships.

Sufficient justification for proposing less than 55 percent of the budget for student support would include support for activities such as program development, expansion of a program, or the addition of a new area of emphasis area. Examples include:

• A project that is starting a new program may request up to a year for program development and capacity building. In the initial project year, no student support would be required. Instead, a project could hire a new faculty member or a consultant to assist in program development.

• A project that is proposing to build capacity may hire a field supervisor so that additional students can be trained.

• A project that is expanding or adding a new emphasis area to the program may initially need additional faculty or other resources such as expert consultants, additional training supplies, or equipment that would enhance the program.

Projects that are funded to develop, expand, or to add a new area of emphasis to special education or related services programs must provide information on how these new areas will be institutionalized once Federal funding ends.

Competitive Preference Priority: Within Absolute Priority 3, we give competitive preference to applications that address the following priority.

This competitive preference priority is from the program statute (section 673(g)(3)(B) of IDEA).

Under 34 CFR 75.105(c)(2)(i) we award up to 10 points to an application, depending on the extent to which the application meets this priority.

This competitive preference priority is:

We give preference to IHEs based on the extent to which IHEs successfully recruit and prepare individuals with disabilities and individuals from groups that are underrepresented in the profession for which they are preparing individuals. In the case of a new project, the applicant must submit a plan with strategies on how it will meet this competitive preference.

Absolute Priority 4—Improving the Preparation of Personnel to Serve Children With High-Incidence Disabilities (84.325H)

Background: State agencies, university training programs, local schools, and other community-based agencies and organizations confirm the importance and the difficulty of improving training programs for personnel to serve children with high-incidence disabilities. Localities nationwide are experiencing chronic shortages of such personnel.

Priority: Consistent with section 673(e) of IDEA, the purposes of this priority are (1) to develop or improve, and implement, programs that provide preservice preparation for special and regular education teachers and related services personnel in order to meet the diverse needs of children with high-incidence disabilities and (2) to enhance the supply of well-trained personnel to serve these children in areas of chronic shortage.

For the purpose of this priority, the term high-incidence disability includes mild or moderate mental retardation, speech or language impairments, emotional disturbance, or specific learning disabilities. Training of early intervention personnel is addressed under the priority for the preparation of personnel to serve children with low-incidence disabilities (84.325A) and, therefore, is not included as part of this priority.

A preservice program is a program that leads toward a degree, certification, professional license or endorsement (or its equivalent), and may include the preparation of currently employed personnel who are seeking additional degrees, certifications, endorsements, or licenses.

Applicants may propose to prepare one or more of the following types of personnel:

(a) Special educators, including those who work in the areas of early childhood, speech and language, adapted physical education, assistive technology; and paraprofessional personnel who work with children with high-incidence disabilities.

(b) Related services personnel, who provide developmental, corrective, and other support services (such as psychological, occupational or physical and recreational therapy) to children with high-incidence disabilities. For the purpose of this priority, eligible related service providers do not include physicians. Comprehensive programs and specialty components within a broader discipline that are designed to prepare personnel for work with the high-incidence population may be supported.

Projects funded under this priority must—

(a) Use curricula and pedagogy that are shown to be effective as demonstrated through scientifically-based research in order to prepare personnel equipped to improve outcomes for students with disabilities;

(b) Demonstrate how research-based curriculum and pedagogy are incorporated into training requirements and reflected in all relevant coursework for the proposed training program;

(c) Offer integrated training and practice opportunities that will enhance the collaborative skills of all personnel who share responsibility for providing effective services for children with high-incidence disabilities;

(d) Prepare personnel to work with culturally and linguistically diverse populations by—

(1) Determining the competencies needed for personnel to work effectively with students with high-incidence disabilities from culturally and linguistically diverse backgrounds; and

(2) Infusing those competencies into special education or related services training;

(e) Develop or improve and implement partnerships that are mutually beneficial to grantees and LEAs in order to promote continuous improvement of preparation programs;

(f) Include field-based training opportunities for students in diverse settings, including schools and high-poverty communities;

(g) Provide clear, defensible research-based methods for evaluating the extent to which graduates of the training program are prepared to provide high-quality services that result in improved outcomes for children with disabilities. Communicate the results of this evaluation process to OSEP in required annual performance reports and the final performance report;

(h) Describe how the proposed training program is aligned with State learning standards for children; and

(i) Include, in the application Appendix, all course syllabi that are relevant to the training program proposed. Course syllabi must clearly reflect the incorporation of research based curriculum and pedagogy as required under paragraph (b) of this section of the priority.

An applicant must satisfy the following requirements contained in section 673(f) through (i) of IDEA and 34 CFR part 304—

(a) Demonstrate, with letters from one or more States that the project proposes to serve, that each State needs personnel in the area or areas in which the applicant proposes to provide preparation, as identified in the State's comprehensive system of personnel development under Part B of IDEA;

(b) Demonstrate that it has engaged in a cooperative effort with one or more SEAs to plan, carry out, and monitor the project;

(c) Provide letters from one or more States stating that they intend to accept successful completion of the proposed personnel preparation program as meeting State personnel standards for serving children with disabilities;

(d) Meet State and professionally-recognized standards for the preparation of special education and related services personnel;

(e) Ensure that individuals who receive financial assistance under the proposed project will meet the service obligation requirements, or repay all or part of the cost of that assistance, in accordance with section 673(h)(1) of IDEA and the regulations in 34 CFR part 304. Applicants must describe how they will inform scholarship recipients of this service obligation requirement; and

(f) As authorized under section 673(i) of IDEA and 34 CFR 304.20, use at least 65 percent of the total requested budget for student scholarships.

Competitive Preference Priority: Within Absolute Priority 4, we give competitive preference to applications that address the following priority.

This competitive preference priority is from the program statute (section 673(g)(3)(B) of IDEA).

Under 34 CFR 75.105(c)(2)(i) we award up to 10 points to an application, depending on the extent to which the application meets this priority.

This competitive preference priority is:

We give preference to IHEs based on the extent to which the IHE successfully recruits and prepares individuals with disabilities and individuals from groups that are underrepresented in the profession for which they are preparing individuals. In the case of a new project, the applicant must submit a plan with strategies on how it will meet this competitive preference.

Waiver of Proposed Rulemaking

Under the Administrative Procedure Act (5 U.S.C. 553) the Department generally offers interested parties the opportunity to comment on proposed priorities. However, section 661(e)(2) of IDEA makes the public comment requirements inapplicable to the priorities in this notice.

Program Authority: 20 U.S.C. 1461, and 1473.

Applicable Regulations: (a) The Education Department General Administrative Regulations (EDGAR) in 34 CFR parts 74, 75, 77, 79, 80, 81, 82, 84, 85, 86, 97, 98, and 99; and (b) The regulations for this program in 34 CFR part 304.

II. Award Information

Type of Award: Discretionary grants.

Estimated Available Funds: $14,200,796.

For funding information regarding the individual priorities, see the chart in the Award Information section of this notice. In addition, the allocation of funds for Absolute Priority 1 is explained in the chart.

Estimated Range of Awards: See chart.

Estimated Average Size of Awards: See chart.

Maximum Awards: See chart.

Estimated Number of Awards: See chart.

Project Period: See chart.

Individuals With Disabilities Education Act Application Notice for Fiscal Year 2004
CFDA number and name | Applications available | Deadline for transmittal of applications | Deadline for intergovernmental review | Estimated available funds | Estimated range of awards | Estimated average size of awards | Maximum award (per year)* | Estimated number of awards | Project period
84.325A Preparation of Special Education, Related Services, and Early Intervention Personnel to Serve Infants, Toddlers, and Children with Low-Incidence Disabilities** | March 4, 2004 | April 16, 2004 | June 15, 2004 | $6,000,000 | $200,000-$250,000 | $224,440 | $250,000 | 24 | Up to 60 months.
84.325D Preparation of Leadership Personnel | March 4, 2004 | April 9, 2004 | June 8, 2004 | 3,174,000 | 171,969-200,000 | 196,200 | 200,000 | 16 | Up to 48 months.
84.325E Preparation of Personnel in Minority Institutions | March 4, 2004 | April 9, 2004 | June 8, 2004 | 2,000,000 | 186,234-200,000 | 196,450 | 200,000 | 10 | Up to 48 months.
84.325H Improving the Preparation of Personnel to Serve Children with High-Incidence Disabilities | March 4, 2004 | April 5, 2004 | June 1, 2004 | 3,026,796 | 163,848-200,000 | 196,840 | 200,000 | 15 | Up to 48 months.
* We will reject any application that proposes a budget exceeding the maximum award for a single budget period of 12 months.
Note: The Department of Education is not bound by any estimates in this notice.
** Under this absolute priority, we plan to award approximately:
60 percent of the available funds for projects that support careers in special education, including early childhood educators;
10 percent of the available funds for projects that support careers in educational interpreter services for hearing impaired individuals;
15 percent of the available funds for projects that support careers in related services, other than educational interpreter services; and
15 percent of the available funds for projects that support careers in early intervention.

III. Eligibility Information

1. Eligible Applicants: IHEs.

2. Cost Sharing or Matching: This competition does not involve cost sharing or matching.

3. Other: General Requirements—(a) The projects funded under this program must make positive efforts to employ and advance in employment qualified individuals with disabilities (see section 606 of IDEA).

(b) Each applicant and grant recipient funded under this program must involve individuals with disabilities or parents of individuals with disabilities in planning, implementing, and evaluating the project (see section 661(f)(1)(A) of IDEA).

(c) Applicants funded under this program must submit annual data on each scholar who receives grant support. The scholar data will be due within 60 days after the end of each grant budget year and will be submitted electronically. Applicants are encouraged to visit the Personnel Prep Data (PPD) Web site at www.osepppd.org for further information.

(d) Each project funded under this program must budget for a two-day Project Directors' meeting in Washington, DC, during each year of the project.

(e) In a single application an applicant may address only one absolute priority.

(f) If a project maintains a Web site, it must include relevant information and documents in an accessible form.

IV. Application and Submission Information

1. Address to Request Application Package: Education Publications Center (ED Pubs), P.O. Box 1398, Jessup, MD 20794-1398. Telephone (toll free): 1-877-433-7827. FAX: 1-301-470-1244. If you use a telecommunications device for the deaf (TDD), you may call (toll free): 1-877-576-7734.

You may also contact ED Pubs at its Web site: www.ed.gov/pubs/edpubs.html or you may contact ED Pubs at its e-mail address: edpubs@inet.ed.gov.

If you request an application from ED Pubs, be sure to identify each competition by its respective CFDA number as follows: CFDA number 84.325A, 84.325D, 84.325E, or 84.325H.

Individuals with disabilities may obtain a copy of the application package in an alternative format (e.g., Braille, large print, audiotape, or computer diskette) by contacting the Grants and Contract Services Team listed in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 50 pages for each absolute priority, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, the references, the letters of support, or the appendix. However, you must include all of the application narrative in Part III.

We will reject your application if—

• You apply these standards and exceed the page limit; or

• You apply other standards and exceed the equivalent of the page limit.

3. Submission Dates and Times: Applications Available: See chart.

Deadline for Transmittal of Applications: See chart. The dates and times for the transmittal of applications by mail or by hand (including a courier service or commercial carrier) are in the application package for this program. The application package also specifies the hours of operation of the e-Application Web site.

We do not consider an application that does not comply with the deadline requirements.

Deadline for Intergovernmental Review: See chart.

4. Intergovernmental Review: This program is subject to Executive Order 12372 and the regulations in 34 CFR part 79. Information about Intergovernmental Review of Federal Programs under Executive Order 12372 is in the application package for these competitions.

5. Funding Restrictions: We reference additional regulations outlining funding restrictions in the Applicable Regulations section of this notice.

6. Other Submission Requirements: Instructions and requirements for the transmittal of applications by mail or by hand (including a courier service or commercial carrier) are in the application package for this program.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications:

We are continuing to expand our pilot project for electronic submission of applications to include additional formula grant programs and additional discretionary grant competitions. The Personnel Preparation To Improve Services and Results for Children with Disabilities program—CFDA Numbers 84.325A, D, E, and H is one of the programs included in the pilot project. If you are an applicant for a grant under the Personnel Preparation To Improve Services and Results for Children With Disabilities program, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We shall continue to evaluate its success and solicit suggestions for its improvement.

If you participate in e-Application, please note the following:

• Your participation is voluntary.

• When you enter the e-Application system, you will find information about its hours of operation. We strongly recommend that you do not wait until the application deadline date to initiate an e-Application package.

• You will not receive additional point value because you submit a grant application in electronic format, nor will we penalize you if you submit an application in paper format.

• You may submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days of submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at 1-202-260-1349.

We may request that you give us original signatures on other forms at a later date.

Application Deadline Date Extension in Case of System Unavailability: If you elect to participate in the e-Application pilot for the Personnel Preparation to Improve Services and Results for Children with Disabilities program and you are prevented from submitting your application on the application deadline date because the e-Application system is unavailable, we will grant you an extension of one business day in order to transmit your application electronically, by mail or hand delivery. We will grant this extension if—

1. You are a registered user of e-Application, and have initiated an e-Application for this competition; and

2. (a) The e-Application system is unavailable for 60 minutes or more between the hours of 8:30 a.m. and 3:30 p.m., Washington, DC, time, on the application deadline date; or

(b) The e-Application system is unavailable for any period of time during the last hour of operation (that is, for any period of time between 3:30 p.m. and 4:30 p.m., Washington, DC, time) on the application deadline date.

We must acknowledge and confirm these periods of unavailability before granting you an extension. To request this extension or to confirm our acknowledgement of any system unavailability, you may contact either (1) the persons listed elsewhere in this notice under For Further Information Contact (see VII. Agency Contact) or (2) the e-GRANTS help desk at 1-888-336-8930.

You may access the electronic grant application for the Personnel Preparation to Improve Services and Results for Children with Disabilities program at http://e-grants.ed.gov.

V. Application Review Information

Selection Criteria: The selection criteria for these competitions are listed in 34 CFR 75.210. The specific selection criteria to be used for these competitions will be provided in the application package.

VI. Award Administration Information

1. Award Notices: If your application is successful, we notify your U.S. Representative and U.S. Senators and send you a Grant Award Notice (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department has established a set of performance measures that are designed to yield information on the effectiveness of the Personnel Preparation program. These measures address: (1) the percentage of scholars that complete their program; and (2) the percentage of scholars employed upon program completion in the area trained.

If funded, applicants will be asked to collect and report data through the Personnel Preparation Data (PPD) Web site at www.osepppd.org (see section III.3.(c) of this notice for further information on the PPD) and in their required annual performance reports. The PPD and annual performance reports are designed, in part, to provide an opportunity for grantees to document their success in addressing these performance measures.

Beyond the performance measures previously described, the Department is also currently developing measures that will be designed to yield information on various aspects of program quality (e.g., the extent to which programs support scholars who are highly qualified for the position for which they are trained; the extent to which the curricula of training programs reflect the current knowledge base on effective practices; and the percentage of program completers maintaining employment for three or more years in the area(s) for which they were trained) for projects funded under this notice. If funded, applicants will also be asked to participate in assessing and providing information on program quality.

VII. Agency Contact

FOR FURTHER INFORMATION CONTACT: The Grants and Contracts Services Team, U.S. Department of Education, 400 Maryland Avenue, SW., room 3317, Switzer Building, Washington, DC 20202-2550. Telephone: 1-202-205-8207.

If you use a telecommunications device for the deaf (TDD), you may call the Federal Information Relay Service (FIRS) at 1-800-877-8339.

Individuals with disabilities may obtain this document in an alternative format (e.g., Braille, large print, audiotape, or computer diskette) on request to the Grants and Contracts Services Team listed in this section.

VIII. Other Information

Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at 1-202-512-1530.

Note: The official version of this document is the document published in the Federal Register. Free Internet access to the official edition of the Federal Register and the Code of Federal Regulations is available on GPO Access at: www.gpoaccess.gov/nara/index.html.

Dated: February 24, 2004.
Troy R. Justesen,
Acting Deputy Assistant Secretary for Special Education and Rehabilitative Services.

[FR Doc. 04-4722 Filed 3-2-04; 8:45 am]

BILLING CODE 4000-01-P